DEPARTMENT OF JUSTICE

Notice of Lodging of Consent Decree Pursuant to the Clean Water Act, the Resource Conservation and Recovery Act; and the Comprehensive Environmental Response, Compensation, and Liability Act

Consistent with Departmental policy, 28 C.F.R. 50.7, notice is hereby given that a proposed Consent Decree United States, et al. v. Montrose Chemical Corporation of California, et al., No. CV 90-3122-R (C.D. Cal), was lodged on July 19, 2001 with the United States District Court for the Central District of California. The consent decree resolves claims under Section 107 of the Comprehensive Environmental Response, Compensation, and Liability Act of 1980, 42 U.S.C. 9607, as amended, brought against defendants Montrose Chemical Corporation of California (“Montrose”), Aventis CropScience USA, Inc. (“Aventis”), Chris-Craft Industries, Inc. (“Chris-Craft”), and Atkemix Thirty Seven, Inc. (“Atkemix-37”) (collectively, the “DDT Defendents”), for response costs incurred and to be incurred by the United States Environmental Protection Agency in connection with responding to the release and threatened release of hazardous substances at residential properties located in (1) the area of Los Angeles County bounded by Normandie Avenue, New Hampshire Avenue, Torrance Blvd., and Del Amo Blvd., and (2) the area of Los Angeles County bounded by Denker Avenue, Del Amo Blvd. Western Avenue and Torrence Blvd.

The proposed consent decree provides that the DDT Defendants will allow materials excavated from the above-described areas to be placed on their property in storage cells. Defendants also pay $250,000, plus the actual costs of constructing the on-property storage cells (up to $356,000), and will operate and maintain the storage cells for four years. The consent decree includes a covenant not to sue by the United States under Sections 106 and 107 of the Comprehensive Environmental Response, Compensation, and Liability Act of 1980, 42 U.S.C. 9606 and 9607, and under Section 7003 of the Resource Conservation and Recovery Act (“RCRA”), 42 U.S.C. 6973.

The Department of Justice will receive, for a period of thirty (30) days from the date of this publication, comments relating to the proposed Consent Decree. Comments should be addressed to the Assistant Attorney General for the Environment and Natural Resources Division, U.S. Department of Justice, P.O. Box 7611, Washington, DC 20044; and refer to United States, et al. v. Montrose Chemical Corporation of California, et al., No. CV 90-3122-R (C.D. Cal), and DOF Ref #90-11-3-511/3.

The proposed settlement agreement may be examined at the Office of the United States Attorney. Central District of California, Federal Building, 300 North Los Angeles Street, Los Angeles, CA 90012; and the Region IX Office of the Environmental Protection Agency, 75 Hawthorne Street, San Francisco, CA 94105. A copy of the proposed Consent Decree may be obtained by mail from the Department of Justice Consent Decree Library P.O. Box 7611, Washington, DC 20044. In requesting a copy please refer to the referenced case and enclose a check in the amount of $10.75 (25 cents per page reproduction costs), payable to the Consent Decree Library.

Ellen M. Mahan,
Assistant Section Chief, Environmental Enforcement Section, Environment and Natural Resources Division.

[FR Doc. 01-19391 Filed 8-2-01; 8:45 am]

BILLING CODE 4410-15-M